FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011117-028

Title: United States/Australasia Interconference and Carrier Discussion Agreement.

Parties:

A.P. Moller-Maersk Sealand

Australia-New Zealand Direct Line

CMA CGM, S.A.

Compagnie Marseille Fret

FESCO Ocean Management Limited

Hamburg-Sud

Ocean Star Container Line, A.G.

P&O Nedlloyd Limited

United States Australasia Agreement

Wallenius Wilhelmsen AS

Synopsis: The proposed agreement modification clarifies that the agreement parties may charter space among themselves on an ad hoc, emergency, or interim basis. It also adds minimum service levels that will be provided by the parties in the agreement trade.

Dated: September 7, 2001.
By Order of the Federal Maritime Commission.
Bryant L. VanBrakle,
Secretary.

[FR Doc. 01-22921 Filed 9-11-01; 8:45 am]

BILLING CODE 6730-01-P